DEPARTMENT OF COMMERCE

National Oceanic and Atmospheric Administration

50 CFR Part 648

[Docket No. 111220786-1781-01]

RIN 0648-XC303

Fisheries of the Northeastern United States; Black Sea Bass Fishery; Recreational Quota Harvested

AGENCY: National Marine Fisheries Service (NMFS), National Oceanic and Atmospheric Administration (NOAA), Commerce.

ACTION: Temporary rule; closure.

SUMMARY: NMFS announces that the 2012 black sea bass recreational harvest limit has been exceeded. No one may fish for or possess black sea bass in Federal waters for the remainder of calendar year 2012, unless issued a Federal moratorium permit and fishing commercially. Regulations governing the black sea bass fishery require publication of this notification to advise that the recreational quota has been harvested and to advise vessel permit holders that no Federal recreational quota is available for fishing black sea bass.

DATES: Effective at 0001 hr local time, November 1, 2012, through 2400 hr local time December 31, 2012.

FOR FURTHER INFORMATION CONTACT: Moira Kelly, Fishery Policy Analyst, (978) 281-9218, or Moira.Kelly@noaa.gov.

SUPPLEMENTARY INFORMATION: Regulations governing the black sea bass fishery are found at 50 CFR part 648. The regulations require annual specification of a recreational harvest limit (RHL) for the Atlantic coast from Cape Hatteras, North Carolina, through Maine. The process to set the annual RHL is described in § 648.142.

The initial total RHL for black sea bass for the 2012 fishing year is 1.86 million lb (844 mt) (76 FR 82189, December 30, 2011). The 2012 RHL was reduced to 1.32 million lb (599 mt) after deduction of research set-aside and discards.

The Administrator, Northeast Region, NMFS (Regional Administrator), monitors the recreational harvest limit and determines when the recreational harvest limit has been met or exceeded. NMFS is required to publish notification in the Federal Register advising and notifying recreational vessels that, effective upon a specific date, the recreational harvest limit has been harvested. The Regional Administrator has determined based upon data from the Marine Recreational Fishing Statistical Survey and the Marine Recreational Information Program that the 2012 recreational black sea bass quota has been exceeded.

Effective 0001 hours, November 1, 2012, no one may fish for or possess black sea bass in Federal waters for the remainder of the 2012 calendar year, unless issued a commercial moratorium permit and fishing commercially. This closure also applies to vessels issued a Federal party/charter permit fishing in state waters.

Classification

This action is required by 50 CFR part 648 and is exempt from review under Executive Order 12866.

Authority: 16 U.S.C. 1801 et seq.

Dated: October 19, 2012.
Emily H. Menashes,
Deputy Director, Office of Sustainable Fisheries, National Marine Fisheries Service.

[FR Doc. 2012-26238 Filed 10-24-12; 8:45 am]

BILLING CODE 3510-22-P